DEPARTMENT OF THE INTERIOR

Office of Natural Resources Revenue

[Docket No. ONRR-2011-0001; DS63644000 DR2PS0000.CH7000 167D0102R2]

Agency Information Collection Activities: Solid Minerals and Geothermal Collections—OMB Control Number 1012-0010; Comment Request

AGENCY: Office of Natural Resources Revenue (ONRR), Interior.

ACTION: Notice of renewal of an existing information collection.

SUMMARY: To comply with the Paperwork Reduction Act of 1995 (PRA), ONRR is notifying the public that we have submitted to the Office of Management and Budget (OMB) an Information Collection Request (ICR) to renew approval of the paperwork requirements in the regulations under title 30, Code of Federal Regulations (CFR), parts 1202, 1206, 1210, 1212, 1217, and 1218. This ICR pertains to royalty and production reporting on solid minerals and geothermal leases on Federal and Indian lands. There are four forms associated with this information collection: ONRR-4430 [Solid Minerals Production and Royalty Report], ONRR-4292 [Coal Washing Allowance Report], ONRR-4293 [Coal Transportation Allowance Report], and ONRR-4440 [Solid Minerals Sales Summary]. This notice also provides the public with a second opportunity to comment on the paperwork burden of these regulatory requirements.

DATES: OMB has up to 60 days to approve or disapprove the information collection request but may respond after 30 days; therefore, you should submit your public comments to OMB by January 26, 2017 for the assurance of consideration.

ADDRESSES: Submit comments to the Office of Information and Regulatory Affairs, Office of Management and Budget, Attention: Desk Officer for the Department of Interior (1012-0010), by telefax at (202) 395-5806 or via email to OIRA_Submission@omb.eop.gov. Also, please send a copy of your comments to Mr. Luis Aguilar, Regulatory Specialist, Office of Natural Resources Revenue, P.O. Box 25165, MS 64400B, Denver, Colorado 80225. Please reference “ICR 1012-0010” in your comments.

FOR FURTHER INFORMATION CONTACT: For questions on technical issues contact Mr. Michael Anspach, Solid Minerals, ONRR, telephone at (303) 231-3618, or email to michael.anspach@onrr.gov. For other questions, contact Mr. Luis Aguilar, telephone at (303) 231-3418, or email to luis.aguilar@onrr.gov. You may also contact Mr. Aguilar to obtain copies (free of charge) of (1) the ICR, (2) any associated forms, and (3) the regulations that require the subject collection of information. You may also review the Information Collection Request online at http://www.reginfo.gov/public/do/PRAMain.

SUPPLEMENTARY INFORMATION:

I. Abstract

The Secretary of the United States Department of the Interior is responsible for mineral resource development on Federal and Indian lands and the Outer Continental Shelf (OCS). The Secretary's responsibility, according to various laws, is to (1) manage mineral resource production from Federal and Indian lands and the OCS; (2) collect the royalties and other mineral revenues due; and (3) distribute the funds collected under those laws. We have posted those laws pertaining to mineral leases on Federal and Indian lands and the OCS at http://www.onrr.gov/Laws_R_D/PubLaws/default.htm.

The Secretary also has a trust responsibility to manage Indian lands and seek advice and information from Indian beneficiaries. ONRR performs the minerals revenue management functions for the Secretary and assists the Secretary in carrying out the Department's trust responsibility for Indian lands.

You can find the information collections covered in this ICR at 30 CFR parts:

• 1202, subpart H, which pertains to geothermal resources royalties.

• 1206, subparts F, H, and J, which pertain to product valuation of Federal coal, geothermal resources, and Indian coal.

• 1210, subparts E and H, which pertain to production and royalty reports on solid minerals and geothermal resources leases.

• 1212, subparts E and H, which pertain to recordkeeping of reports and files for solid minerals and geothermal resources leases.

• 1217, subparts E, F, and G, which pertain to audits and inspections of coal, other solid minerals, and geothermal resources leases.

• 1218, subparts E and F, which pertain to royalties, rentals, bonuses, and other monies payment for solid minerals and geothermal resources.

All data reported is subject to subsequent audit and adjustment.

General Information

When a company or an individual enters into a lease to explore, develop, produce, and dispose of minerals from Federal or Indian lands, that company or individual agrees to pay the lessor a share in a value of production from the leased lands. The lessee or designee must report various kinds of information to the lessor relative to the disposition of the leased minerals. Such information is generally available within the records of the lessee or others involved in developing, transporting, processing, purchasing, or selling such minerals.

Information Collections

ONRR, acting for the Secretary, uses the information that we collect to ensure that lessees accurately value and appropriately pay all royalties based on the correct product valuation. ONRR and other Federal Government entities, including the Bureau of Land Management, the Bureau of Indian Affairs, and State and Tribal governmental entities, use the information for audit purposes and for evaluating the reasonableness of product valuation or allowance claims that lessees submit. Please refer to the burden hour chart for all reporting requirements and associated burden hours.

A. Solid Minerals

Producers of coal and other solid minerals from any Federal or Indian lease must submit current form ONRR-4430 and other associated data formats such as form ONRR-4440. These companies also report certain data on form ONRR-2014 (OMB Control Number 1012-0004). Producers of coal from any Indian lease must also submit forms ONRR-4292 and ONRR-4293, if they wish to claim allowances on form ONRR-4430; the information that ONRR requests is the minimum necessary to carry out our mission and places the least possible burden on respondents.

B. Geothermal Resources

This ICR also covers some of the information collections for geothermal resources, which ONRR groups by usage (electrical generation, direct use, and byproduct recovery), and by disposition of the resources (arm's-length (unaffiliated) contract sales, non-arm's-length contract sales, and no contract sales) within each use group. ONRR relies primarily on data that payors report on form ONRR-2014 for the majority of our business processes, including geothermal information. In addition to using the data to account for royalties that payors report, ONRR uses the data for monthly distribution of mineral revenues and for audit and compliance reviews.

OMB Approval

We will request OMB approval to continue to collect this information. Not collecting this information would limit the Secretary's ability to discharge fiduciary duties and may also result in the loss of royalty payments. We protect the proprietary information that ONRR receives and do not collect items of a sensitive nature. Reporters must submit forms ONRR-4430 and ONRR-4440. Also, ONRR requires that reporters submit forms ONRR-4292 and ONRR-4293 to claim allowances on form ONRR-4430.

II. Data

Title: Solid Minerals and Geothermal Collections—30 CFR parts 1202, 1206, 1210, 1212, 1217, and 1218.

OMB Control Number: 1012-0010.

Bureau Form Number: Forms ONRR-4430, ONRR-4292, ONRR-4293, and ONRR-4440.

Frequency: Monthly, annually, and on occasion.

Estimated Number of Respondents: 100 reporters.

Estimated Annual Reporting and Recordkeeping “Hour” Burden: 3,884 hours.

We have not included in our estimates certain requirements that companies perform in the normal course of business and that ONRR considers usual and customary. This 30-day Federal Register notice burden chart shows an adjustment increase of +450 burden hours from the previous 60-day notice; this adjustment is based on a new requirement to submit additional information for the sales summaries in form ONRR-4440. We display the estimated annual burden hours by CFR section and paragraph in the following chart.

Summary of Information Collections
Information collections (and 30 CFR references *) | Requirement to respond | Frequency of response | Number of annual responses | Annual burden hours
1. Reporting Formats | Mandatory | Monthly | 3,599 | 1,557
• Form ONRR-4430, Solid Minerals Production and Royalty Report |  |  |  |
• Associated Data (sales summary, facility data) (1206.257, 1206.259, 1206.262, 1206.264, 1206.265, 1206.456, 1206.463, 1206.464; 1210.201, 1210.203, 1210.204; 1218.201 [1206.457, 1206.460]; 1218.203) |  |  |  |
• Form ONRR-4440, Solid Minerals Sales Summary (1201.202) | Mandatory | Monthly | 900 | 900
2. Allowance Forms:
• Form ONRR-4292, Coal Washing Allowance Report (1206.458) | Required to obtain a benefit | Annually | 3 | 4
• Form ONRR-4293, Coal Transportation Allowance Report (1206.461) |  | On occasion | 4 | 5
3. Geothermal Resources (1206.353, 1206.354, 1206.356, 1206.359, 1206.364; 1210.352; 1218.306) | Mandatory | On occasion | 48 | 62
4. Recordkeeping (1206.253, 1206.254, 1206.257; 1212.200) | Mandatory | As requested | 4,880 | 1,356
Total |  |  | 9,434 | 3,884
Note: Audit Process—The Office of Regulatory Affairs determined that the audit process is exempt from the Paperwork Reduction Act of 1995 because ONRR staff asks non-standard questions to resolve exceptions.

Estimated Annual Reporting and Recordkeeping “Non-hour” Cost Burden: We have identified no “non-hour” cost burdens associated with the collection of information.

III. Request for Comments

Section 3506(c)(2)(A) of the PRA requires each agency to “* * * provide 60-day notice in the Federal Register * * * and otherwise consult with members of the public and affected agencies concerning each proposed collection of information * * *.” Agencies must specifically solicit comments to (a) evaluate whether the proposed collection of information is necessary for the agency to perform its duties, including whether the information is useful; (b) evaluate the accuracy of the agency's estimate of the burden of the proposed collection of information; (c) enhance the quality, usefulness, and clarity of the information that ONRR collects; and (d) minimize the burden on the respondents, including the use of automated collection techniques or other forms of information technology.

To comply with the public consultation process, we published a notice in the Federal Register on April 14, 2016 (81 FR 22106), announcing that we would submit this ICR to OMB for approval. The notice provided the required 60-day comment period. We received no unsolicited comments in response to the notice.

Public Disclosure Statement: The PRA (44 U.S.C. 3501 et seq.) provides that an agency may not conduct or sponsor—and a person is not required to respond to—a collection of information unless it displays a currently valid OMB control number. If you wish to comment in response to this notice, you may send your comments to the offices listed under the ADDRESSES section of this notice. OMB has up to 60 days to approve or disapprove the information collection, but they may respond after 30 days.

Public Comment Policy: ONRR will post all comments, including names and addresses of respondents at http://www.regulations.gov. Before including Personally Identifiable Information (PII), such as your address, phone number, email address, or other personal information in your comment(s), you should be aware that your entire comment (including PII) may be made available to the public at any time. While you may ask us, in your comment, to withhold PII from public view, we cannot guarantee that we will be able to do so.

Dated: December 13, 2016.
Gregory J. Gould,
Director, Office of Natural Resources Revenue.

[FR Doc. 2016-31063 Filed 12-23-16; 8:45 am]

BILLING CODE 4335-30-P